DEPARTMENT OF ENERGY

Federal Energy Regulatory Commission

[Docket No. RP00-356-000]

El Paso Natural Gas Company; Notice of Tariff Filing

June 29, 2000.

Take notice that on June 26, 2000, El Paso Natural Gas Company (El Paso) tendered for filing as part of its FERC Gas Tariff, Second Revised Volume No. 1-A, the following tariff sheets:

Effective March 26, 2000

Third Revised Sheet No. 289

Second Revised Sheet No. 336

Fifth Revised Sheet No. 338

1st Revised Third Revised Sheet No. 339

First Revised Sheet No. 342

Second Revised Sheet No. 346

Fifth Revised Sheet No. 350

Third Revised Sheet No. 350A

Effective June 1, 2000

Second Revised Sheet No. 308

El Paso states that the tariff sheets are being submitted, pursuant to Order No. 637, to (i) remove the rate ceiling for capacity releases of less than one year, (ii) modify El Paso's right-of-first-refusal provisions applicable to long term firm contracts at the maximum rate, and (iii) revise the electronic bulletin board description to refer to El Paso's Internet Web site.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17004 Filed 7-5-00; 8:45 am]

BILLING CODE 6717-01-M